DEPARTMENT OF COMMERCE

International Trade Administration

[A-570-870]

Notice of Final Determination of Sales at Less Than Fair Value: Certain Circular Welded Carbon-Quality Steel Pipe from the People's Republic of China

AGENCY: Import Administration, International Trade Administration, Department of Commerce.

EFFECTIVE DATE: May 24, 2002.

FOR FURTHER INFORMATION CONTACT: Alex Villanueva or Amy Ryan at (202) 482-3208 and (202) 482-0961, respectively, Import Administration, International Trade Administration, U.S. Department of Commerce, 14th Street and Constitution Avenue, N.W., Washington, DC 20230.

SUPPLEMENTARY INFORMATION:

The Applicable Statute and Regulations

Unless otherwise indicated, all citations to the statute are references to the provisions effective January 1, 1995, the effective date of the amendments made to the Tariff Act of 1930 (“the Act”) by the Uruguay Round Agreements Act. In addition, unless otherwise indicated, all citations to the Department of Commerce (“Department”) regulations are to the regulations at 19 C.F.R. Part 351 (2001).

Final Determination

We determine that certain circular welded carbon-quality steel pipe (“pipe”) from the People's Republic of China (“PRC”) is being, or is likely to be, sold in the United States at less than fair value (“LTFV”), as provided in section 735 of the Act. The estimated margins of sales at LTFV are shown in the “Continuation of Suspension of Liquidation” section of this notice.

Case History

The preliminary determination in this investigation was published on December 31, 2001. See Notice of Preliminary Determination of Sales at Less Than Fair Value: Certain Circular Welded Carbon-Quality Steel Pipe From the People's Republic of China, 66 FR 67500 (“Preliminary Determination”). This investigation covers three mandatory respondents, WeiFang East Steel Pipe Co., Ltd. (“WeiFang”); Tianjin Shuang Jie Steel Pipe Co., Ltd. (“Shuang Jie”); and Baosteel Group International Trade Corporation (“Baosteel”). In addition, there are five voluntary respondents, Tai Feng Qiao Metal Products Co. (“Tai Feng Qiao”); Pangang Group International Economic and Trade Corporation (“Pangang International”); ZheJiang JingZhou HuaLong Petroleum Corrosion-Resistant Steel Pipe Co., Ltd. (Jinzhou”); Walsall Steel Pipe Industrial Co., Ltd. (“Walsall”); China MinMetals ZhuHai Co., Ltd. (“ZhuHai”). Petitioners in this investigation are Allied Tube & Conduit Corporation, Century Tube Corporation, IPSCO Tubulars, Inc., Laclede Steel, LTV Copperweld, Maverick Tube Corporation, Northwest Pipe Company, Sharon Tube Company, Western Tube & Conduit Corporation, Wheatland Tube Company and the United Steelworkers of America, AFL-CIO (collectively, “Petitioners”).

On January 16, 2002, pursuant to a request from Shuang Jie, the Department postponed the final determination until May 15, 2002. See Notice of Postponement of Final Determination of Antidumping Duty Investigation: Certain Circular Welded Carbon-Quality Steel Pipe From the People's Republic of China, 67 FR 2189 (January 16, 2002). The Department verified the responses to the antidumping questionnaire of Baosteel and one of its suppliers from January 16-19, 2002; WeiFang from February 3-5, 2002; and Shuang Jie from February 7-9, 2002. After releasing verification reports, we invited parties to comment on these reports and our Preliminary Determination. We received comments from petitioners and all three mandatory respondents on March 20, 2002 and rebuttal briefs from the same parties on March 25, 2002. At the requests of Shuang Jie and petitioners, a hearing was held on April 15, 2002.

Based on our analysis of verification findings and the comments received, we have made changes in the margin calculation. Therefore, the final determination differs from the Preliminary Determination.

Period of Investigation

The period of investigation (“POI”) is October 1, 2000 through March 31, 2001. This period corresponds to the two most recent fiscal quarters prior to the month of the filing of the petition (i.e. May 24, 2001). See 19 C.F.R. 351.204(b)(1).

Scope of Investigation

The products covered by this investigation are certain welded carbon-quality steel pipes and tubes, of circular cross-section, with an outside diameter of 0.372 inches (9.45 mm) or more, but not more than 16 inches (406.4 mm), regardless of wall thickness, surface finish (black, galvanized, or painted), end finish (plain end, beveled end, grooved, threaded, or threaded and coupled), or industry specification (ASTM, proprietary, or other), generally known as standard pipe and structural pipe.

Standard pipes and tubes are intended for the low-pressure conveyance of water, steam, natural gas, air, and other liquids and gases in plumbing and heating systems, air conditioning units, automatic sprinkler systems, and other related uses. Standard pipe may carry liquids at elevated temperatures but may not be subject to the application of external heat. It may also be used for light load-bearing and mechanical applications, such as for fence tubing, and for protection of electrical wiring, such as conduit shells, and for structural applications in general construction. It primarily is made to American Society for Testing and Materials (ASTM) A-53, A-135, and A-795 specifications, but can also be made to the British Standard (BS)-1387 specification.

Structural pipe is intended for use in the construction of bridges and buildings, and general structural applications. It also can be used for making steel scaffolding and for piling applications. It primarily is made to ASTM A-500 and A-252 specifications.

Hence, specifically included within the scope of this investigation are products stenciled to the ASTM standards A-53, A-135, A-795, A-120, A-500, A-252, or their equivalents. Standard and structural pipe products may also be produced to proprietary specifications rather than to industry standard. This is often the case with fence tubing, for example.

The scope does not include boiler tubes, pressure tubing, mechanical tubing, finished conduit, oil country tubular goods (OCTG), and line pipe. However, with regard to these excluded products, if petitioners or other interested parties provide to the Department reasonable grounds to believe or suspect that the products are being used in a standard or structural application, the Department may instruct the U.S. Customs Service to require end-use certifications. In addition, line pipe meeting the American Petroleum Institute (API) line pipe is excluded from the scope of this investigation, and any resultant antidumping duty order, if covered by the scope of another antidumping duty order from the same country.

The standard pipe products that are the subject of this investigation are currently classifiable in the Harmonized Tariff Schedule of the United States (HTSUS) subheadings 7306.30.10 and 7306.30.50. This investigation also covers dual-certified A-53/API or single certified pipe that enters the United States if its is used in, or intended for use in, standard pipe or structural pipe applications. Such certified pipe may include API-5L or API-5L X-42 pipe. Although the HTSUS subheadings are provided for convenience and U.S. Customs purposes, the written description of the merchandise under investigation is dispositive.

Non-Market Economy

The Department has treated the PRC as a non-market economy (“NME”) country in all its past antidumping investigations. See Notice of Final Determination of Sales at Less Than Fair Value: Honey from the People's Republic of China, 66 FR 50608 (October 4, 2001); Notice of Final Determination of Sales at Less Than Fair Value: Certain Folding Gift Boxes from the People's Republic of China, 66 FR 58115 (November 20, 2001). A designation as a NME country remains in effect until it is revoked by the Department. See section 771(18)(C) of the Act. The respondents in this investigation have not requested a revocation of the PRC's NME status. Therefore, we have continued to treat the PRC as a NME in this investigation. For further details, see the Preliminary Determination.

Separate Rates

In our Preliminary Determination, we found that the mandatory respondents, Baosteel, Shuang Jie and WeiFang, as well as the voluntary respondents, ZhuHai, Tai Feng Qiao, Walsall, Pangang International and Jinzhou met the criteria for the application of separate, company-specific antidumping duty rates. We have not received any other information since the Preliminary Determination which would warrant reconsideration of our separates rates determination with respect to these companies. For a complete discussion of the Department's determination that the respondents are entitled to separate rates, see the Preliminary Determination.

The PRC-Wide Rate

In the Preliminary Determination, we found that the use of adverse facts available for the PRC-wide rate was appropriate for other exporters in the PRC based on our presumption that those respondents who failed to demonstrate entitlement to a separate rate constitute a single enterprise under common control by the Chinese government. The PRC-wide rate applies to all entries of the merchandise under investigation except for entries from Baosteel International, Tianjin Shuang Jie, WeiFang, Zhuhai, Tai Feng Qiao, Walsall, Pangang International, and Jinzhou. We received no comments on this decision and for this final determination, we continue to believe that use of adverse facts available for the PRC-wide rate is appropriate. For further discussion, see Preliminary Determination.

Margins for Cooperative Exporters Not Selected

For our final determination, consistent with our Preliminary Determination, we have calculated a weight-averaged margin for ZhuHai, Tai Feng Qiao, Walsall, Pangang International, and Jinzhou based on the rates calculated for those exporters that were selected to respond in this investigation, excluding any rates that are zero, de minimis or based entirely on adverse facts available. See Preliminary Determination. Companies receiving this rate are identified by name in the “Continuation of Suspension of Liquidation” section of this notice.

Surrogate Country

For purposes of the final determination, we continue to find that India remains the appropriate surrogate country for the PRC. We received comments from a respondent in its brief, which are discussed in the accompanying Issues and Decision Memorandum for the Antidumping Duty Investigation of Circular Welded Carbon-Quality Steel Pipe from the People's Republic of China: 10/1/00-03/31/01 at Comments 1 and 2 (May 15, 2002) (“Issues and Decision Memorandum”). For further discussion and analysis regarding the surrogate country selection for the PRC, see the Preliminary Determination and the Memorandum to Edward C. Yang from Robert Bolling on Surrogate Country Selection, on file in the Department's Central Records Unit, Room B-099 of the Main Department of Commerce Building.

Analysis of Comments Received

All issues raised in the case briefs by parties to this investigation are addressed in the Issues and Decision Memorandum, which is adopted by this notice. A list of the issues which parties raised, and to which we have responded, all of which are in the Issues and Decision Memorandum, is attached to this notice as an Appendix. A complete discussion of all issues raised in this investigation and the corresponding recommendations in this public memorandum, is on file in the Central Records Unit. In addition, a complete version of the Issues and Decision Memorandum can be accessed directly on the Internet at http://ia.ita.doc.gov/. The paper copy and electronic version of the Issues and Decision Memorandum are identical in content.

Changes Since the Preliminary Determination

Based on our findings at verification, and analysis of comments received, we have made corrections to certain respondents' reported factor usage rates and surrogate values . We have also corrected certain clerical errors in our Preliminary Determination. These changes are discussed in the relevant sections of the Issues and Decision Memorandum, the Memorandum to the File: Factors Valuation for Baosteel, Shuang Jie and WeiFang and the respective Analysis Memoranda for the Final Determination for Shuang Jie, Baosteel and Weifang (May 15, 2002).

Verification

As provided in section 782(i) of the Act, we verified the information submitted by the mandatory respondents for use in our final determination. We used standard verification procedures including examination of relevant accounting and production records, and original source documents provided by the respondents. For changes from the Preliminary Determination as a result of verification, see the respective analysis memoranda.

Continuation of Suspension of Liquidation

In accordance with section 735(c)(1)(B)(ii) of the Act, we are directing the Customs Service to continue to suspend liquidation of entries of subject merchandise from the PRC (except certain merchandise exported by Baosteel and Weifang) that are entered, or withdrawn from warehouse, for consumption on or after December 31, 2001. We will instruct the Customs Service to require a cash deposit or the posting of a bond equal to the weighted-average amount by which the normal value exceeds the U.S. price, as indicated in the chart below. These suspension-of-liquidation instructions will remain in effect until further notice.

Under the Department's NME methodology, the rate for each mandatory exporter is based on a comparison of the exporter's U.S. price and NV based on the factors of production of a specific producer (which may be a different party). Therefore, the exclusion of the above mentioned companies from an antidumping duty order (should one be issued) applies only to subject merchandise exported by Baosteel and produced by its suppliers during the period of investigation and to subject merchandise produced and exported by Weifang. As Baosteel's supplier names are proprietary, they have been identified as Supplier A and Supplier B for this public document. However, the supplier names have been identified in Analysis Memo for the Preliminary Determination of Certain Circular Welded Carbon-Quality Steel Pipe from the People's Republic of China (“PRC”): Baosteel (May 15, 2002). Merchandise that is exported by Baosteel or Weifang, but manufactured by producers not noted below for that exporter will be subject to the order, if one is issued. See Notice of Final Determination of Sales at Less Than Fair Value: Brake Drums and Brake Rotors from the People's Republic of China, 62 FR 916 (February 28, 1997). Entries of such merchandise will be subject to the “China-wide” rate.

Certain Circular Welded Carbon-Quality Steel Pipe
Producer/Manufacturer/Exporter | Weight-Averaged Margin (Percent)
Baosteel/Supplier A or Supplier B | 0
Shuang Jie | 3.87
WeiFang | 0
Tai Feng Qiao | 3.87
ZhuHai | 3.87
Pangang International | 3.87
Jinzhou | 3.87
Walsall | 3.87
PRC-Wide | 36.42

International Trade Commission Notification

In accordance with section 735(d) of the Act, we have notified the International Trade Commission (“ITC”) of our determination. As our final determination is affirmative, the ITC will, within 45 days, determine whether these imports are materially injuring, or threaten material injury to, the U.S. industry. If the ITC determines that material injury, or threat of material injury does not exist, the proceeding will be terminated and all securities posted will be refunded or canceled. If the ITC determines that such injury does exist, the Department will issue an antidumping duty order directing Customs officials to assess antidumping duties on all imports of subject merchandise entered for consumption on or after the effective date of the suspension of liquidation.

This determination is issued and published in accordance with sections 735(d) and 777(i)(1) of the Act.

Dated: May 15, 2002
Faryar Shirzad,
Assistant Secretary for Import Administration.

Appendix

Comment 1: Market Economy Purchases from Country X and Country Y

Comment 2: Valuing a Respondent's Factors of Production using the other Respondent's Market Economy Purchases

Comment 3: Surrogate Value for Hot-Rolled Coil

Comment 4: Calculation of Zinc Usage Ratio

Comment 5: Surrogate Companies used for the Financial Ratios Calculation

Comment 6: Iran's Market Status in the Surrogate Value Calculation

Comment 7: Treatment of Foreign Inland Freight and Brokerage and Handling in Normal Value Calculation

[FR Doc. 02-13147 Filed 5-23-02; 8:45 am]

BILLING CODE 3510-DS-S